DEPARTMENT OF LABOR

Employment and Training Administration

Announcement of the Mailing Addresses for Applications Not Filed Electronically Under the New Permanent Foreign Labor Certification (PERM) Program

AGENCY: Employment and Training Administration, Labor.

ACTION: Notice.

SUMMARY: The regulation to implement the re-engineered permanent foreign labor certification program (PERM) was published in the Federal Register on December 27, 2004, with an effective date of March 28, 2005. See 69 FR 77326. The Employment and Training Administration (ETA) of the Department of Labor (Department or DOL) is issuing this notice to announce the mailing addresses for employers that choose to file applications by mail under the new permanent foreign labor certification program. The Department encourages employers to file applications electronically as applications submitted by mail will not be processed as quickly as those filed electronically.

As of December 13, 2004, the Department opened two new National Processing Centers in Atlanta and Chicago. The National Processing Centers will handle permanent labor certification cases filed under the PERM system. In addition, these centers will process all applications that are withdrawn from the current permanent labor certification program and re-filed under the new PERM program.

FOR FURTHER INFORMATION CONTACT: William Carlson, Chief, Division of Foreign Labor Certification, Employment and Training Administration, 200 Constitution Avenue, NW., Room C-4312, Washington, DC 20210; Telephone: (202) 693-3010 (this is not a toll-free number).

SUPPLEMENTARY INFORMATION: The new PERM regulation is effective March 28, 2005. Under the PERM program, employers will submit their applications for permanent labor certification directly to DOL using either electronic or mail-in options. Employers will, among other things, be required to obtain a prevailing wage determination from the appropriate State Workforce Agency (SWA) prior to filing their applications with DOL.

Until March 27, 2005, employers must continue to submit applications for permanent labor certification to State Workforce Agencies. All applications for permanent labor certification received by the SWAs postmarked March 28, 2005 or later will be returned to the sender.

Employers choosing to use the e-filing option under the new PERM program will complete their applications via the Internet at http://www.workforcesecurity.doleta.gov/foreign. A major advantage of e-filing is the on-line system's ability to assist employers by instantaneously checking for obvious errors. This option will also speed the process of evaluating the applications, and prevent data entry errors.

For employers choosing to submit an application for permanent employment certification by U.S. mail, applications must be sent to one of the two National Processing Centers, as explained below.

If the area of intended employment is in one of the following states or territories, then the PERM application must be mailed to the Atlanta Processing Center at the address listed below:

Alabama, Connecticut, Delaware, Florida, Georgia, Kentucky, Maine, Maryland, Massachusetts, Mississippi, New Hampshire, New Jersey, New York, North Carolina, Pennsylvania, Puerto Rico, Rhode Island, South Carolina, Tennessee, Vermont, Virgin Islands, Virginia, Washington DC, West Virginia, U.S. Department of Labor, Employment and Training Administration, Harris Tower, 233 Peachtree Street, NE., Suite 410, Atlanta, Georgia 30303; Phone: (404) 893-0101, Fax: (404) 893-4642.

If the area of intended employment is in one of the following states or territories then the PERM application must be mailed to the Chicago Processing Center at the address listed below:

Alaska, Arizona, Arkansas, California, Colorado, Guam, Hawaii, Idaho, Illinois, Indiana, Iowa, Kansas, Louisiana, Michigan, Minnesota, Missouri, Montana, Nebraska, Nevada, New Mexico, North Dakota, Ohio, Oklahoma, Oregon, South Dakota, Texas, Utah, Washington, Wisconsin, Wyoming, U.S. Department of Labor, Employment and Training Administration, 844 North Rush Street, 12th Floor, Chicago, Illinois 60611; Phone: (312) 886-8000, Fax: (312) 886-1688.

Signed in Washington, DC, this 31st day of January, 2005.
Emily Stover DeRocco,
Assistant Secretary, Employment and Training Administration.

[FR Doc. 05-2373 Filed 2-7-05; 8:45 am]

BILLING CODE 4510-30-P